CORPORATION FOR NATIONAL AND COMMUNITY SERVICE

45 CFR Part 2551

RIN 3045-AA29

Senior Companion Program; Amendments

AGENCY: Corporation for National and Community Service.

ACTION: Proposed rule.

SUMMARY: These amendments to the Final Regulation governing the Senior Companion Program include the addition of persons with limited English speaking proficiency as eligible participants, clarify that the value of food, clothing and shelter is to be counted as income if provided at no cost by any source, adjust income eligibility levels in high cost areas, reduce restrictions on sponsors and volunteer eligibility, provide for volunteer leaders authorized by the Domestic Volunteer Service Act of 1973, as amended, and permit Senior Companions to serve the 1044 hours in a nine month period.

DATES: Submit comments on or before June 17, 2002.

ADDRESSES: Send comments to the Corporation for National and Community Service, National Senior Service Corps, Attn: Mr. Peter L. Boynton, 9th Floor, 1201 New York Avenue, NW, Washington, DC, 20525. Comments may be e-mailed to Pboynton@cns.gov.

FOR FURTHER INFORMATION CONTACT: Peter L. Boynton, 202-606-5000, ext. 499.

SUPPLEMENTARY INFORMATION:

Background

The Final Regulation that is the subject of this amendment implemented changes to the Domestic Volunteer Service Act of 1973, as amended, and established or clarified minimum program requirements. The following changes to the Final Regulation are being proposed:

(1) Section 2551.23 (c) (2) (iv) provides that the Memorandum of Understanding between a sponsor and a volunteer station must contain an assurance that the volunteer station will not discriminate against Foster Grandparents or in the operation of its station. Executive Order 13166 issued August 11, 2000, requires that each Federal agency develop a plan to improve access to its programs by eligible persons who, as a result of national origin, are limited in their English proficiency. The intent of the proposed amendment is to improve access of persons with limited English proficiency.

(2) Section 2551.42 (b) provides that annual income is counted for the past 12 months. As currently worded, this applies to new applicants to the program as well as those who continue in service. However, in the case of new applicants to become stipended Senior Companions, the Corporation intends that sponsors use the applicant's projected income over the following 12 months to determine eligibility. This proposed amendment would permit additional recent retirees, or others whose household income has been reduced within the past 12 months, to serve as Senior Companions.

(3) Section 2551.51 provides that a Senior Companion must serve a minimum of nine months a year for an average of 20 hours of service per week and a maximum of 1044 hours per year. The proposed amendment would allow Senior Companion Program sponsors increased flexibility in determining the hours of service for Senior Companions in accordance with local needs, within a range of from 15 to 40 hours per week, subject to a maximum of 2088 hours per year.

(4) Section 2551.61 details conditions under which a Senior Companion Program sponsor may serve as a volunteer station. The Corporation believes these conditions should be expanded. Since each sponsor currently submits workplans with its grant application for approval by the Corporation State Office, the Corporation believes the review of these workplans provides sufficient basis for deciding the appropriateness of a given sponsor serving as a volunteer station. The proposed amendment would permit a sponsor to serve as a volunteer station provided that this is part of a workplan submitted with the application.

(5) When the Final Regulation was published, in an effort to be consistent with Foster Grandparent Program Regulations, we did not include provision for volunteer leaders. The Domestic Volunteer Service Act of 1973, as amended, authorizes volunteer leaders in the Senior Companion Program. Sections 2551.45, 2551.71 and 2551.72 are being amended to include volunteer leaders.

List of Subjects in 45 CFR Part 2551

Aged, Grant programs—social programs, Volunteers.

For the reasons set forth in the preamble, the Corporation for National and Community Service proposes to amend 45 CFR part 2551 as follows:

PART 2551—SENIOR COMPANION PROGRAM

1. The authority citation for part 2551 continues to read as follows:

Authority: 42 U.S.C. 4950 et seq.

2. Revise § 2551.23(c)(2)(iv) to read as follows:

§ 2551.23 What are a sponsor's program responsibilities?

* * * * *

(c) * * *

(2) * * *

(iv) That states the station assures it will not discriminate against volunteers or in the operation of its program on the basis of race; color; national origin, including individuals with limited English proficiency; sex; age; political affiliation; religion; or on the basis of disability, if the participant or member is a qualified individual with a disability; and

* * * * *

3. In § 2551.42, revise paragraph (b) to read as follows:

§ 2551.42 What income guidelines govern eligibility to serve as a stipended Senior Companion?

* * * * *

(b) For applicants to become stipended Senior Companions, annual income is projected for the following 12 months, based on income at the time of application. For serving stipended Senior Companions, annual income is counted for the past 12 months. Annual income includes the applicant or enrollee's income and that of his/her spouse, if the spouse lives in the same residence. Sponsors shall count the value of shelter, food, and clothing, if provided at no cost by persons related to the applicant, enrollee, or spouse.

* * * * *

4. Amend § 2551.45 by republishing the introductory text and adding paragraph (f) to read as follows:

§ 2551.45 What cost reimbursements are provided to Senior Companions?

Cost reimbursements include:

* * * * *

(f) Leadership incentive. Senior Companions who serve as volunteer leaders, assisting new Senior Companions or coordinating other Senior Companions in accordance with the Act, may be paid a monetary incentive.

5. Revise § 2551.51 to read as follows:

§ 2551.51 What are the terms of service of a Senior Companion?

A Senior Companion shall serve a minimum of 15 hours per week and a maximum of 40 hours per week. A Senior Companion shall not serve more than 2088 hours per year. Within these limitations, a sponsor may set service policies consistent with local needs.

6. Revise § 2551.61 to read as follows:

§ 2551.61 May a sponsor serve as a volunteer station?

Yes, a sponsor may serve as a volunteer station, provided this is part of the application workplan approved by the Corporation.

7. Revise § 2551.71 to read as follows:

§ 2551.71 What requirements govern the assignment of Senior Companions?

(a) Senior Companion assignments shall provide for Senior Companions to give direct services to one or more eligible adults that:

(1) Result in person-to-person supportive relationships with each client served.

(2) Support the achievement and maintenance of the highest level of independent living for their clients.

(3) Are meaningful to the Senior Companion.

(4) Are supported by appropriate orientation, training, and supervision.

(b) Senior Companions may serve as volunteer leaders, and in this capacity may provide indirect services. Senior Companions with special skills or demonstrated leadership ability may assist newer Senior Companion volunteers in performing their assignments and in coordinating activities of such volunteers.

(c) Senior Companions shall not provide services such as those performed by medical personnel, services to large numbers of clients, custodial services, administrative support services, or other services that would detract from their assignment.

8. Revise § 2551.72 to read as follows:

§ 2551.72 Is a written volunteer assignment plan required for each volunteer?

(a) All Senior Companions performing direct services to individual clients in home settings and individual clients in community-based settings, shall receive a written volunteer assignment plan developed by the volunteer station that:

(1) Is approved by the sponsor and accepted by the Senior Companion;

(2) Identifies the client(s) to be served;

(3) Identifies the role and activities of the Senior Companion and expected outcomes for the client(s);

(4) Addresses the period of time each client is expected to receive such services; and

(5) Is used to review the status of the Senior Companion's services in working with the assigned client(s), as well as the impact of the assignment on the client(s).

(b) If there is an existing plan that incorporates paragraphs (a)(2), (3), and (4) of this section, that plan shall meet the requirement.

(c) All Senior Companions serving as volunteer leaders shall receive a written volunteer assignment plan developed by the volunteer station that:

(1) Is approved by the sponsor and accepted by the Senior Companion;

(2) Identifies the role and activities of the Senior Companion and expected outcomes;

(3) Addresses the period of time of service; and

(4) Is used to review the status of the Senior Companion's services identified in the assignment plan, as well as the impact of those services.

Dated: April 10, 2002.
Tess Scannell,
Director, National Senior Service Corps.

[FR Doc. 02-9199 Filed 4-16-02; 8:45 am]

BILLING CODE 6050-$$-P